DEPARTMENT OF ENERGY

Federal Energy Regulatory Commission

Combined Notice of Filings #1

Take notice that the Commission received the following exempt wholesale generator filings:

Docket Numbers: EG23-52-000.

Applicants: Gambit Energy Storage LLC.

Description: Gambit Energy Storage LLC submits Notice of Self-Certification of Exempt Wholesale Generator Status.

Filed Date: 12/21/22.

Accession Number: 20221221-5429.

Comment Date: 5 p.m. ET 2/13/23.

Docket Numbers: EG23-67-000.

Applicants: Chevelon Butte RE LLC.

Description: Chevelon Butte RE LLC submits Notice of Self-Certification of Exempt Wholesale Generator Status.

Filed Date: 1/24/23.

Accession Number: 20230124-5112.

Comment Date: 5 p.m. ET 2/14/23.

Take notice that the Commission received the following electric rate filings:

Docket Numbers: ER15-1332-010; ER14-1934-007; ER14-1935-007; ER15-1020-005; ER16-1724-009.

Applicants: Paulding Wind Farm III LLC, Rising Tree Wind Farm III LLC, Rising Tree Wind Farm II LLC, Rising Tree Wind Farm LLC, Arbuckle Mountain Wind Farm LLC.

Description: Notice of Change in Status of Arbuckle Mountain Wind Farm LLC, et al.

Filed Date: 1/23/23.

Accession Number: 20230123-5187.

Comment Date: 5 p.m. ET 2/13/23.

Docket Numbers: ER22-2318-001.

Applicants: MATL LLP.

Description: Compliance filing: Amendment to Order 881 Compliance Filing to be effective 3/14/2022.

Filed Date: 1/24/23.

Accession Number: 20230124-5099.

Comment Date: 5 p.m. ET 2/14/23.

Docket Numbers: ER22-2901-001.

Applicants: Carthage Energy, LLC.

Description: Tariff Amendment: Deficiency Filing to 78 to be effective 9/23/2022.

Filed Date: 1/23/23.

Accession Number: 20230123-5158.

Comment Date: 5 p.m. ET 2/13/23.

Docket Numbers: ER22-2902-001.

Applicants: Power City Partners, L.P.

Description: Tariff Amendment: Deficiency Filing to 54 to be effective 9/23/2022.

Filed Date: 1/23/23.

Accession Number: 20230123-5164.

Comment Date: 5 p.m. ET 2/13/23.

Docket Numbers: ER23-923-000.

Applicants: Wisconsin Power and Light Company.

Description: § 205(d) Rate Filing: WPL Administrative Changes to Formula Rate Templates to be effective 3/25/2023.

Filed Date: 1/23/23.

Accession Number: 20230123-5159.

Comment Date: 5 p.m. ET 2/13/23.

Docket Numbers: ER23-924-000.

Applicants: Wisconsin Power and Light Company.

Description: § 205(d) Rate Filing: WPL W-2A Formula Rate Revision to be effective 3/25/2023.

Filed Date: 1/23/23.

Accession Number: 20230123-5160.

Comment Date: 5 p.m. ET 2/13/23.

Docket Numbers: ER23-925-000.

Applicants: Wisconsin Power and Light Company.

Description: § 205(d) Rate Filing: WPL W-3A Formula Rate Revision to be effective 3/25/2023.

Filed Date: 1/23/23.

Accession Number: 20230123-5161.

Comment Date: 5 p.m. ET 2/13/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 24, 2023.
Debbie-Anne A. Reese,
Deputy Secretary.

[FR Doc. 2023-01857 Filed 1-27-23; 8:45 am]

BILLING CODE 6717-01-P